DEPARTMENT OF DEFENSE

48 CFR Parts 204 and 252

[DFARS Case 99-D015]

Defense Federal Acquisition Regulation Supplement; Disclosure of Information

AGENCY: Department of Defense (DoD).

ACTION: Proposed rule; withdrawal.

SUMMARY: DoD is withdrawing the proposed rule published at 64 FR 56724 on October 21, 1999. The rule proposed amendments to the Defense Federal Acquisition Regulation Supplement (DFARS) pertaining to contractor release of sensitive, unclassified contract information. DoD is planning to revise DoD Regulation 5200.1-R, Information Security Program, including the policy pertaining to sensitive infroamtion. DoD will reexamine the need for DFARs amendments on this subject when the revision of DOD Regulation 5200.1-R is complete.

FOR FURTHER INFORMATION CONTACT: Ms. Melissa Rider, Defense Acquisition Regulations Council, PDUSD (AT&L) DP (DAR), IMD 3D139, 3062 Defense Pentagon, Washington, DC 20301-3062. Telephone (703) 602-4245; telefax (703) 602-0350. Please cite DFARS Case 99-D015.

Michele P. Peterson,
Executive Editor, Defense Acquisition Regulations Council.

[FR Doc. 00-9082 Filed 4-12-00; 8:45 am]

BILLING CODE 5000-04-M